ENVIRONMENTAL PROTECTION AGENCY

40 CFR Part 180

[EPA-HQ-OPP-2024-0059; FRL-11682-11-OCSPP]

Receipt of a Pesticide Petition Filed for Residues of Pesticide Chemicals in or on Various Commodities (November 2024)

AGENCY: Environmental Protection Agency (EPA).

ACTION: Notification of filing of petition and request for comment.

SUMMARY: This document announces the Agency's receipt of an initial filing of a pesticide petition requesting the establishment or modification of regulations for residues of pesticide chemicals in or on various commodities.

DATES: Comments must be received on or before February 12, 2025.

ADDRESSES: Submit your comments, identified by docket identification (ID) number EPA-HQ-OPP-2024-0059, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Anita Pease, Antimicrobials Division (AD) (7510P), main telephone number: (202) 566-0736; email address: ADFRNotices@epa.gov or Charles Smith, Registration Division (RD) (7505T), main telephone number: (202) 566-1030, email address: RDFRNotices@epa.gov. The mailing address for each contact person is Office of Pesticide Programs, Environmental Protection Agency, 1200 Pennsylvania Ave. NW, Washington, DC 20460-0001. As part of the mailing address, include the contact person's name, division, and mail code.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing receipt of a pesticide petition filed under section 408 of the Federal Food, Drug, and Cosmetic Act (FFDCA), 21 U.S.C. 346a, requesting the establishment or modification of regulations in 40 CFR part 180 for residues of pesticide chemicals in or on various food commodities. The Agency is taking public comment on the request before responding to the petitioner. EPA is not proposing any particular action at this time. EPA has determined that the pesticide petition described in this document contains data or information prescribed in FFDCA section 408(d)(2), 21 U.S.C. 346a(d)(2); however, EPA has not fully evaluated the sufficiency of the submitted data at this time or whether the data supports granting of the pesticide petition. After considering the public comments, EPA intends to evaluate whether and what action may be warranted. Additional data may be needed before EPA can make a final determination on this pesticide petition.

Pursuant to 40 CFR 180.7(f), a summary of the petition that is the subject of this document, prepared by the petitioner, is included in a docket EPA has created for this rulemaking. The docket for this petition is available at https://www.regulations.gov.

As specified in FFDCA section 408(d)(3), 21 U.S.C. 346a(d)(3), EPA is publishing notice of the petition so that the public has an opportunity to comment on this request for the establishment or modification of regulations for residues of pesticides in or on food commodities. Further information on the petition may be obtained through the petition summary referenced in this unit.

A. Notice of Filing—Amended Tolerances for Non-Inerts

1. PP 1F8916. EPA-HQ-OPP-2021-0516. In the Federal Register of November 23, 2021 (86 FR 66512) (FRL-8792-05-OCSPP), EPA issued a document pursuant to FFDCA Section 408(d)(3), announcing the filing of pesticide petition (PP 1F8916) by CA TriNova, LLC. 1 Beavers Street, Suite B, Newman, GA 30263. This issuance is to supersede the filing of (86 FR 66512) to include additional crop groups. ICA TriNova, LLC. 1 Beavers Street, Suite B, Newman, GA 30263, requests to amend the existing exemption from the requirement for a tolerance for residues of chlorate resulting from the application of gaseous chlorine dioxide as a fungicide, bactericide, and antimicrobial at 40 CFR 180.1364 to include residues in or on raw agricultural commodities from: Crop Group 1 (root and tuber vegetables); crop group 3 (bulb vegetables, bulbs); crop group 8 (fruiting vegetables); crop group 9 (cucurbit vegetables); crop group 10 (citrus); crop group 11 (pome fruits); crop group 12 (stone fruits); crop group 13 (berries); crop group 14 (tree nuts); crop group 16 (forage, fodder, and straw of cereal grains); crop group 17 (grass forage, fodder, and hay); crop group 18 (non-grass animal feeds); crop group 21 (edible fungi); crop group 23 (tropical and subtropical fruits, edible peel); and crop group 24 (tropical and subtropical fruits, inedible peel). The petitioner believes no analytical method is needed because the Agency is establishing an exemption from the requirement of a tolerance without any numerical limitation. Contact: AD.

2. PP 3E9078. EPA-HQ-OPP-2023-0555. Interregional Research Project Number 4 (IR-4), IR-4 Project Headquarters, North Carolina State University, 1730 Varsity Drive, Venture IV, Suite 210, Raleigh, NC 27606, requests to amend 40 CFR 180.442, upon the approval of the requested tolerances, by removing the established tolerances for residues of bifenthrin, including its metabolites and degradates in or on the following commodities: Brassica, head and stem, subgroup 5A, (except cabbage) at 0.6 parts per million (ppm); cotton, undelinted seed at 0.5 ppm; leafy petioles subgroup 4B at 3.0 ppm; pea and bean, dried shelled, except soybean, subgroup 6C at 0.15 ppm; pea and bean, succulent shelled, subgroup 6B at 0.05 ppm; rapeseed, seed at 0.05 ppm; and vegetable, legume, edible podded, subgroup 6A at 0.6 ppm. Contact: RD.

3. PP 4E9106. EPA-HQ-OPP-2024-0201. IR-4, IR-4 Project Headquarters, North Carolina State University, 1730 Varsity Drive, Suite 210, Venture IV, Raleigh, NC 27606, requests to amend 40 CFR 180.378 by removing the established tolerances for residues of the insecticide permethrin [(3-phenoxyphenyl)methyl 3-(2,2-dichloroethenyl)-2,2-dimethylcyclopropanecarboxylate], as the sum of its cis- and trans- isomers in or on the raw agricultural commodities: Corn, field, grain at 0.05 ppm; corn, pop, grain at 0.05 ppm; corn, sweet, kernel plus cob with husks removed at 0.10 ppm; leafy greens subgroup 4A at 20 ppm; lettuce, head at 20 ppm; and spinach at 20 ppm. Contact: RD.

B. Notice of Filing—New Tolerance Exemptions for Inerts (Except PIPS)

PP IN-11881. EPA-HQ-OPP-2024-0347. D. O'Shaughnessy Consulting, Inc. (206 Traditions Blvd., Bowling Green, KY 42103) on behalf of A&L Biological, Inc. (2140 Jetstream Rd., London ON Canada), requests to establish an exemption from the requirement of a tolerance for residues of L-Arginine (CAS Reg. No. 74-79-3) when used as an inert ingredient (protein stabilizer) in pesticide formulations applied in or on the raw agricultural commodity, pre-bloom greenhouse cucumber, under 40 CFR 180.920, limited to ≤1% weight in weight (w/w). The petitioner believes no analytical method is needed because it is not required for an exemption from the requirement of a tolerance. Contact: RD.

C. Notice of Filing—New Tolerances for Non-Inerts

1. PP 3E9078. EPA-HQ-OPP-2023-0555. IR-4, IR-4 Project Headquarters, North Carolina State University, 1730 Varsity Drive, Venture IV, Suite 210, Raleigh, NC 27606 requests to establish tolerances in 40 CFR 180.442 for residues of bifenthrin (2-methyl [1,1′-biphenyl]-3-yl) methyl-3- (2-chloro-3,3,3,-trifluoro-1-propenyl)-2,2-dimethylcyclopropanecarboxylate in or on the raw agricultural commodities: Celtuce at 3 ppm; citrus, oil at 0.75 ppm; clover, forage (regional tolerance) at 7 ppm; clover, hay (regional tolerance) at 30 ppm; coffee, green bean at 0.05 ppm; cottonseed subgroup 20C at 0.5 ppm; edible podded bean subgroup 6-22A at 0.6 ppm; edible podded pea subgroup 6-22B at 0.6 ppm; fennel, florence, fresh leaves and stalks at 3 ppm; kiwifruit, fuzzy at 1.5 ppm; kohlrabi at 0.6 ppm; leaf petiole vegetable subgroup 22B at 3 ppm; pulses, dried shelled bean, except soybean, subgroup 6-22E at 0.3 ppm; pulses, dried shelled pea subgroup 6-22F at 0.3 ppm; rapeseed subgroup 20A at 0.05 ppm; safflower at 0.2 ppm; succulent shelled bean subgroup 6-22C at 0.05 ppm; succulent shelled pea subgroup 6-22D at 0.05 ppm; swiss chard at 3 ppm; tropical and subtropical, palm fruit, edible peel, subgroup 23C at 3 ppm; and vegetable, brassica, head and stem, group 5-16 except cabbage at 0.6 ppm. There is a practical analytical method for detecting and measuring levels of bifenthrin in or on food with a limit of detection that allows monitoring of food with residues at or above the levels set in these tolerances (Gas Chromatography with Electron Capture Detection (GC/ECD)). Contact: RD.

2. PP 3F9095. EPA-HQ-OPP-2024-0502. Syngenta Crop Protection, LLC, P.O. Box 18300, Greensboro, NC 27419, requests to establish a tolerance in 40 CFR part 180 for residues of the fungicide, pydiflumetofen, in or on coffee, green bean at 0.2 ppm, and dragon fruit at 0.9 ppm. The QuEChERS multi-residue method is used to measure and evaluate the chemical pydiflumetofen. Contact: RD.

3. PP 3F9066. EPA-HQ-OPP-2024-0491. Bayer CropScience LP, 800 N Lindbergh Blvd., St. Louis, Missouri 63167, requests to establish a tolerance in 40 CFR part 180 for residues of the herbicide acetochlor in or on rapeseed subgroup 20A at 0.6 ppm and pennycress, seed at 0.05 ppm. The High-Performance Liquid Chromatography/Oxidative Coulometric Electrochemical Detector (HPLC-OCED) method is used to measure and evaluate the chemical acetochlor and its metabolites. Contact: RD.

4. PP 4E9105. EPA-HQ-OPP-2024-0331. UPL Chile S.A. (El Rosal 4610, Huechuraba Santiago, Chile, Postal Code: 8590724), requests to establish a tolerance in 40 CFR 180.417 for residues of triclopyr, [(3,5,6-trichloro-2-pyridinyl) oxy] acetic acid, including its metabolites and degradates, in or on imported commodities in orange subgroup 10-10A at 0.07 ppm. Analytical methods based on High-Performance Liquid Chromatography-Mass Spectrometry/Mass Spectrometry (HPLC-MS/MS), including a method using QuEChERS technique, are available to determine residues of triclopyr in high-acid content commodities. Contact: RD.

5. PP 4E9144. EPA-HQ-OPP-2024-0405. IR-4, IR-4 Project Headquarters, North Carolina State University, 1730 Varsity Drive, Venture IV, Suite 210, Raleigh, NC 27606, requests to establish a tolerance in 40 CFR 180.574 for residues of the fungicide fluazinam, including its metabolites and degradates. Compliance with the tolerance levels specified below is to be determined by measuring only the sum of fluazinam, (3-chloro-N-[3-chloro-2,6-dinitro-4-(trifluoromethyl) phenyl]-5-(trifluoromethyl)-2-pyridinamine), in or on the raw agricultural commodities: Grape at 3 ppm, strawberry at 0.01 ppm and vegetable, brassica, head and stem, group 5-16 at 5 ppm. In addition, IR-4 is seeking conversion of existing individual bean and pea commodity tolerances to the following crop subgroups: Vegetable, legume, bean, edible-podded, subgroup 6-22A at 0.1 ppm; vegetable, legume, bean, succulent shelled, subgroup 6-22C at 0.04 ppm; vegetable, legume, pea, edible-podded, subgroup 6-22B at 0.15 ppm; vegetable, legume, pea, succulent shelled, subgroup 6-22D at 0.03 ppm; vegetable, legume, pulse, bean, dried shelled, except soybean, subgroup 6-22E at 0.02 ppm; vegetable, legume, pulse, pea, dried shelled, subgroup 6-22F at 0.04 ppm. Adequate enforcement methodology analytical method using Liquid Chromatography/Mass Spectrometry/Mass Spectrometry (LC-MS/MS) for the determination of fluazinam and AMGT residues on broccoli and strawberry leaves were used. Contact: RD.

6. PP 4E9149. EPA-HQ-OPP-2024-0548. National Confectioners Association., 101 30th St. NW, Washington, DC 2007, requests to establish an import tolerance in the 40 CFR part 180 for residues of the insecticide, cypermethrin, on cacao, dried bean, and associated processed commodities at 0.02 ppm. The chromatography in gas phase coupled to a Gas Chromatography/Electron Capture Detector (GC/ECD) analytical method was used to measure and evaluate the chemical cypermethrin. Contact: RD.

Authority: 21 U.S.C. 346a.

Dated: December 12, 2024.
Kimberly Smith,
Acting Director, Information Technology and Resources Management Division, Office of Program Support.

[FR Doc. 2024-31405 Filed 1-10-25; 8:45 am]

BILLING CODE 6560-50-P